DEPARTMENT OF AGRICULTURE

Animal and Plant Health Inspection Service

[Docket No. APHIS-2015-0063]

International Trade Data System Test Concerning the Electronic Submission to the Automated Commercial Environment of Data Using the Partner Government Agency Message Set

AGENCY: Animal and Plant Health Inspection Service, USDA.

ACTION: Notice.

SUMMARY: The Animal and Plant Health Inspection Service (APHIS), in coordination with U.S. Customs and Border Protection (CBP), is advising the public that a pilot plan to test and assess the International Trade Data System for the electronic submission of data required by APHIS Animal Care, Biotechnology Regulatory Services, Plant Protection and Quarantine, and Veterinary Services for processing in the Automated Commercial Environment has proven successful and will end on August 15, 2016. After this date, all submissions of APHIS-required data must be submitted in accordance with the procedures on the CBP Web site.

DATES: The test will end August 15, 2016.

FOR FURTHER INFORMATION CONTACT: For technical questions related to the Automated Commercial Environment or Automated Broker Interface transmissions, contact your assigned CBP client representative. Interested parties without an assigned client representative should direct their questions to Mr. Steven Zaccaro, U.S. Customs and Border Protection, DHS, 1400 L Street NW., 2nd floor, Washington, DC 20229-1225; steven.j.zaccaro@cbp.dhs.gov.

For PGA-related questions, contact Ms. Emi Wallace, U.S. Customs and Border Protection, DHS, 1400 L Street NW., 2nd floor, Washington, DC 20229-1225; emi.r.wallace@cbp.dhs.gov.

For APHIS program-related questions, contact Ms. Cindy Walters, APHIS Liaison for Automated Commercial Environment, International Trade Data System, Management and Program Analyst, Quarantine Policy and Analysis Staff, PPQ, APHIS, 4700 River Road Unit 60, Riverdale, MD 20720; 301-851-2273; Cindy.L.Walters@aphis.usda.gov.

SUPPLEMENTARY INFORMATION: The National Customs Automation Program (NCAP) was established in Subtitle B of Title VI—Customs Modernization, in the North American Free Trade Agreement Implementation Act (Pub. L. 103-182, 107 Stat. 2057, 2170, December 8, 1993; see 19 U.S.C. 1411). Through NCAP, the initial thrust of customs modernization was on trade compliance and the development of the Automated Commercial Environment (ACE), the planned successor to the Automated Commercial System (ACS). ACE is an automated and electronic system for commercial trade processing intended to streamline business processes, facilitate growth in trade, ensure cargo security, and foster participation in global commerce, while ensuring compliance with U.S. laws and regulations and reducing costs for U.S. Customs and Border Protection (CBP) and all of its communities of interest. The ability to meet these objectives depends on successfully modernizing CBP's business functions and the information technology that supports those functions.

CBP's modernization efforts are accomplished through phased releases of ACE component functionality designed to replace specific legacy ACS functions or test new automated procedures. The Automated Broker Interface (ABI) allows participants to electronically file required import data with CBP and transfers that data into ACE.

On October 2, 2015, the Animal and Plant Health Inspection Service (APHIS) published a notice in the Federal Register (80 FR 59721, Docket No. APHIS-2015-0063) ¹ announcing a pilot test in furtherance of the International Trade Data System (ITDS). The purpose of ITDS is to eliminate redundant information filing requirements, efficiently regulate the flow of commerce, and effectively enforce laws and regulations relating to international trade, by establishing a single portal system, operated by CBP, for the collection and distribution of standard electronic import and export data required by all participating Federal agencies. As part of this test, APHIS-required data was transmitted electronically to operational ports using either ACE, ABI, or the Document Image System.²

¹ To view the notice, go to http://www.regulations.gov/#!docketDetail;D=APHIS-2015-0063.

² CBP announced changes to the Document Image System test in a notice published in the Federal Register on October 15, 2015 (80 FR 62082, Docket No. USCP-2015-0046). To view this notice, go to http://www.regulations.gov/#!docketDetail;D=USCBP-2015-0046.

APHIS is announcing that the APHIS core pilot has proven successful and, as a result, will end August 15, 2016. After this date, entry filers will be required to file electronic entries in ACE with APHIS data and some or all APHIS forms using the method designated on the CBP Web site for the submission of the APHIS data and forms. APHIS will still collect some paper documentation, such as phytosanitary certificates and health certificates for live animals and animal products, due to an Office of Management and Budget waiver. Information regarding methods of submission is available on the CBP Web site at https://www.cbp.gov/sites/default/files/assets/documents/2016-Mar/PGA%20Forms%20Document%20March%2030%202016.pdf.

Done in Washington, DC, this 13th day of July 2016.
Jere L. Dick,
Acting Administrator, Animal and Plant Health Inspection Service.

[FR Doc. 2016-16932 Filed 7-15-16; 8:45 am]

BILLING CODE 3410-34-P